Proclamation 8004 of April 19, 2006

National Volunteer Week, 2006

By the President of the United States of America

A Proclamation

Throughout our country, volunteers make America stronger and better by reaching out to help their neighbors in need. During National Volunteer Week, we recognize the millions of individuals who dedicate their time, talents, and energy to making a difference in the lives of others and reaffirm our commitment to supporting these soldiers in the armies of compassion.

In the 1830s, a Frenchman named Alexis de Tocqueville visited our Nation and saw that the secret to America's success was our talent for bringing people together for the common good and our willingness to serve a cause greater than self. Today, the great strength of America is still found in the hearts and souls of our people. By making a commitment to service, integrity, and good citizenship, our Nation's volunteers show their gratitude for the blessings of freedom and help build a more hopeful future for our children and grandchildren.

Since we created USA Freedom Corps in 2002, my Administration has matched millions of willing volunteers with opportunities to serve in their communities. These kind-hearted individuals help people who hurt, mentor children who need love, feed those who are hungry, and shelter those who need homes. In the aftermath of the devastating hurricanes of 2005, people throughout our great Nation opened their hearts to help the Gulf Coast recover and rebuild. We will continue to foster the efforts of the millions who care deeply about the future of our country and the plight of their fellow citizens. Americans can find more information about volunteer service opportunities in their own hometowns by visiting the USA Freedom Corps website at volunteer.gov.

Our Nation is a force for freedom and prosperity, and our greatness is measured by our character and how we treat one another. During National Volunteer Week, and throughout the year, we appreciate the millions of volunteers across America and strive to be a more compassionate and decent society.

NOW, THEREFORE, I, GEORGE W. BUSH, President of the United States of America, by virtue of the authority vested in me by the Constitution and laws of the United States, do hereby proclaim April 23 through April 29, 2006, as National Volunteer Week. I call upon all Americans to recognize and celebrate the important work that volunteers do every day throughout our country. I also encourage citizens to explore ways to help their neighbors in need and serve a cause greater than themselves.

IN WITNESS WHEREOF, I have hereunto set my hand this nineteenth day of April, in the year of our Lord two thousand six, and of the Independence of the United States of America the two hundred and thirtieth.

B

[FR Doc. 06-3915

Filed 4-21-06; 8:49 am]

Billing code 3195-01-P